DEPARTMENT OF HOMELAND SECURITY

Coast Guard

33 CFR Part 164

Navigation Underway; Tankers

CFR Correction

In Title 33 of the Code of Federal Regulations, Parts 125 to 199, revised as of July 1, 2012, on page 598, after the source note for § 164.13, the effective date note is reinstated to read as follows: “Effective Date Note: At 58 FR 36141, July 6, 1993, § 164.13 was amended by suspending paragraph (e), effective July 9, 1993.”

[FR Doc. 2013-13014 Filed 5-30-13; 8:45 am]

BILLING CODE 1505-01-D